DEPARTMENT OF ENERGY

Federal Energy Regulatory Commission

[Docket No. AD16-16-000]

Implementation Issues Under the Public Utility Regulatory Policies Act of 1978; Supplemental Notice Concerning Technical Conference

As announced in the Notice of Technical Conference issued on February 9, 2016, the Federal Energy Regulatory Commission (Commission) will hold a technical conference on June 29, 2016, from 9:00 a.m. to approximately 4:00 p.m. on implementation issues under the Public Utility Regulatory Policies Act of 1978 (PURPA).¹ The conference will be held in the Commission Meeting Room at the Federal Energy Regulatory Commission, 888 First Street NE., Washington, DC 20426.

¹ 16 U.S.C. 824a-3 (2012).

The purpose of the technical conference is to focus on issues associated with the Commission's implementation of PURPA. As provided in the attached preliminary agenda, the conference will focus on two issues: The mandatory purchase obligation under PURPA and the determination of avoided costs for those purchases.

Those interested in speaking at the technical conference should notify the Commission by April 4, 2016, by completing the online form at the following Web page: https://www.ferc.gov/whats-new/registration/06-29-16-speaker-form.asp. At this Web page, please provide an abstract (700 character limit) of the issue(s) you propose to address. Due to time constraints, we expect to not be able to accommodate all those interested in speaking. Selected speakers will be notified as soon as possible.

Those who plan to attend the technical conference are strongly encouraged to complete the registration form located at: https://www.ferc.gov/whats-new/registration/06-29-16-form.asp. There is no registration deadline or fee to attend the conference.

Information on this event will be posted on the Calendar of Events on the Commission's Web site, http://www.ferc.gov, prior to the event. The conference will be transcribed. Transcripts will be available for a fee from Ace Reporting Company (202-347-3700). A free webcast of this event is also available through www.ferc.gov. Anyone with Internet access who desires to view this event can do so by navigating to http://www.ferc.gov Calendar of Events and locating this event in the Calendar. The event will contain a link to the webcast. The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free (866) 208-3372 (voice) or (202) 208-1659 (TTY), or send a FAX to (202) 208-2106 with the required accommodations.

For more information about the technical conferences, please contact:

Technical Information

Adam Alvarez, Office of Energy Market Regulation, Federal Energy Regulatory Commission, 888 First Street NE., Washington, DC 20426, (202) 502-6734, Adam.Alvarez@ferc.gov.

Legal Information

Loni Silva, Office of the General Counsel, Federal Energy Regulatory Commission, 888 First Street NE., Washington, DC 20426, (202) 502-6233, Loni.Silva@ferc.gov.

Logistical Information

Sarah McKinley, Office of External Affairs, Federal Energy Regulatory Commission, 888 First Street NE., Washington, DC 20426, (202) 502-8368. Sarah.Mckinley@ferc.gov.

Dated: March 4, 2016.
Nathaniel J. Davis, Sr.,
Deputy Secretary.

[FR Doc. 2016-05351 Filed 3-9-16; 8:45 am]

BILLING CODE 6717-01-P